DEPARTMENT OF VETERANS AFFAIRS

[OMB Control No. 2900-0862]

Agency Information Collection Activity: Decision Review Request: Higher-Level Review

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, and select “Currently under Review—Open for Public Comments”, then search the list for the information collection by Title or “OMB Control No. 2900-0862.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0862” in any correspondence.

SUPPLEMENTARY INFORMATION:

Authority: Public Law 115-55; 44 U.S.C. 3501-21.

Title: Decision Review Request: Higher-Level Review (VA Form 20-0996).

OMB Control Number: 2900-0862.

Type of Review: Revision of a currently approved collection.

Abstract: VA Form 20-0996, Decision Review Request: Higher-Level Review is used by a claimant to formally request a higher-level review of a VA decision as the agency of original jurisdiction, in accordance with the Appeals Modernization Act. The information collected is used by VA to identify the issues which the claimant wishes to dispute in their request for a higher-level review. Additionally, the information collected is used to schedule a telephonic informal conference, when requested.

This is an extension of a currently approved collection which was due for renewal. No substantive changes were made to the collection. Minor changes were made to the instructions to make the instructions easier to understand. The requirement to sign in ink was removed. Changes were made to the Optional Informal Conference and Issues For Higher-Level Review sections to make these sections easier for claimants to understand and complete.

An agency may not conduct or sponsor, and a person is not required to respond to a collection of information unless it displays a currently valid OMB control number. The Federal Register Notice with a 60-day comment period soliciting comments on this collection of information was published at 88 FR 86449 on December 13, 2023.

Affected Public: Individuals and households.

Estimated Annual Burden: 49,650 hours.

Estimated Average Burden per Respondent: 15 minutes.

Frequency of Response: One time.

Estimated Number of Respondents: 198,600.

By direction of the Secretary.
Dorothy Glasgow,
VA PRA Clearance Officer, (Alt), Office of Enterprise and Integration, Data Governance Analytics, Department of Veterans Affairs.

[FR Doc. 2024-03132 Filed 2-14-24; 8:45 am]

BILLING CODE 8320-01-P